DEPARTMENT OF THE INTERIOR

Bureau of Land Management

[WY-957-05-1420-BJ]

Filing of Plats of Survey, Wyoming

AGENCY: Bureau of Land Management, Interior.

ACTION: Notice.

SUMMARY: The Bureau of Land Management (BLM) has filed the plats of survey of the lands described below in the BLM Wyoming State Office, Cheyenne, Wyoming, on August 3, 2005.

FOR FURTHER INFORMATION CONTACT: Bureau of Land Management, 5353 Yellowstone Road, PO Box 1828, Cheyenne, Wyoming 82003.

SUPPLEMENTARY INFORMATION: These surveys were executed at the request of the Bureau of Land Management, and are necessary for the management of resources. The lands surveyed are:

The plat representing the corrective dependent resurvey of a portion of the subdivisional lines, Township 17 North, Range 93 West, Sixth Principal Meridian, Wyoming, was accepted August 3, 2005.

Copies of the preceding described plats and field notes are available to the public at a cost of $1.10 per page.

Dated: August 4, 2005.
John P. Lee,
Chief Cadastral Surveyor, Division of Support Services.

[FR Doc. 05-16010 Filed 8-11-05; 8:45 am]

BILLING CODE 4310-22-P